DEPARTMENT OF TRANSPORTATION

Federal Transit Administration

[FTA-2000-7836]

Agency Information Collection Activity Under OMB Review

AGENCY: Federal Transit Administration, DOT.

ACTION: Notice of request for comments.

SUMMARY: In accordance with the Paperwork Reduction Act of 1995 (44 U.S.C. 3501 et seq.), this notice announces that the Information Collection Request (ICR) abstracted below has been forwarded to the Office of Management and Budget (OMB) for extension of a currently approved collection. The ICR describes the nature of the information collection and its expected burden. The Federal Register Notice with a 60-day comment period soliciting comments for the Prohibited Drug Use in Transit Operations collection of information was published on May 2, 2000 (65 FR 25530) and on July 8, 1999 (64 FR 36957) for the Control of Alcohol Misuse in Transit Operations collection of information. A 30-day notice was also published for the Control of Alcohol in Transit Operations collection of information. The Department has since determined that the drug and alcohol collections of information will be combined.

DATES: Comments must be submitted before September 25, 2000. A comment to OMB is most effective if OMB receives it on or before September 25, 2000.

FOR FURTHER INFORMATION CONTACT: Sylvia L. Barney-Marion, Office of Administration, Office of Management Planning, (202) 366-6680.

SUPPLEMENTARY INFORMATION:

Title: Prevention of Drug Use and Alcohol Misuse in Transit Operations (OMB Numbers: 2132-0556 and 2132-0557)

Abstract: The Omnibus Transportation Employee Testing Act of 1991 (Pub. L. 102-143, October 28, 1991, now codified in relevant part at 49 U.S.C. 5331) requires any recipient of federal financial assistance under 49 U.S.C. 5309, 5307, or 5311 or under 23 U.S.C. 103(e) (4) to establish a program designed to help prevent accidents and injuries resulting from the misuse of drugs and alcohol by employees who perform safety-sensitive functions. FTA's regulations, 49 CFR part 653, “Prevention of Prohibited Drug Use in Transit Operations,” and 49 CFR part 654, “Control of Alcohol Misuse in Transit Operations,” effective March 17, 1994, require recipients to submit to FTA annual reports containing data which summarize information concerning the recipients' drug and alcohol testing programs, such as the number and type of tests given, number of positive test results, and the kinds of safety-sensitive functions the employees perform. FTA uses these data to ensure compliance with the rule, to assess the misuse of drugs and alcohol in the transit industry, and to set the random testing rate. The data will also be used to assess the effectiveness of the rule in reducing the misuse of drugs and alcohol among safety-sensitive transit employees and making transit safer for the public.

Estimated Total Annual Burden: 10,117 hours.

ADDRESSES: All written comments must refer to the docket number that appears at the top of this document and be submitted to the Office of Information and Regulatory Affairs, Office of Management and Budget, 725—17th Street, NW., Washington, DC. 20503, Attention: FTA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Dated: August 22, 2000.
Dorrie Y. Aldrich,
Associate Administrator for Administration.

[FR Doc. 00-21776 Filed 8-24-00; 8:45 am]

BILLING CODE 4910-57-P